DEPARTMENT OF THE INTERIOR

Bureau of Land Management

[LLORC00000.L58820000.AL0000.LXRSCC990000.252W; HAG 10-0257]

Meeting for the Coos Bay District Resource Advisory Committee

AGENCY: Bureau of Land Management, Interior.

ACTION: Meeting Notice for the Coos Bay District Resource Advisory Committee.

SUMMARY: Pursuant to the Federal Land Policy and Management Act and the Federal Advisory Committee Act, the U.S. Department of the Interior, Bureau of Land Management (BLM) Coos Bay District Resource Advisory Committee (CBDRAC) will meet as indicated below:

DATES: The CBDRAC meeting will begin at 9 a.m. PDT on May 27, 2010.

ADDRESSES: The CBDRAC will meet at the Coos Bay BLM District Office, 1300 Airport Lane, North Bend, Oregon 97459.

FOR FURTHER INFORMATION CONTACT: Glenn Harkleroad, Assistant Field Manager, 1300 Airport Lane, North Bend, OR 97459, (541) 751-4361, or e-mail glenn_harkleroad@blm.gov.

SUPPLEMENTARY INFORMATION: The meeting agenda includes new member orientation, election of officers, and other matters as may reasonably come before the council. The public is welcome to attend all portions of the meeting and may make oral comments to the Council at 10 a.m. on May 27, 2010. Those who verbally address the CBDRAC are asked to provide a written statement of their comments or presentation. Unless otherwise approved by the CBDRAC Chair, the public comment period will last no longer than 15 minutes, and each speaker may address the CBDRAC for a maximum of five minutes. If reasonable accommodation is required, please contact the BLM's Coos Bay District at (541) 756-0100 as soon as possible.

Dated: May 10, 2010.
Mark E. Johnson,
District Manager, Coos Bay District Office.

[FR Doc. 2010-11626 Filed 5-14-10; 8:45 am]

BILLING CODE 4310-33-P